DEPARTMENT OF STATE

[Public Notice 4259]

Bureau of Political-Military Affairs: Defense Trade Controls; Notifications to the Congress of Proposed Commercial Export Licenses

AGENCY: Department of State.

ACTION: Notice.

SUMMARY: Notice is hereby given that the Department of State has forwarded the attached Notifications of Proposed Export Licenses to the Congress on the dates shown on the attachments pursuant to sections 36(c) and 36(d) and in compliance with section 36(f) of the Arms Export Control Act (22 U.S.C. 2776).

EFFECTIVE DATE: As shown on each of the three letters.

FOR FURTHER INFORMATION CONTACT: Mr. Robert W. Maggi, Deputy Assistant Secretary for Defense Trade Controls, Bureau of Political-Military Affairs, Department of State (202-663-2700).

SUPPLEMENTARY INFORMATION: Section 36(f) of the Arms Export Control Act mandates that notifications to the Congress pursuant to sections 36(c) and 36(d) must be published in the Federal Register when they are transmitted to Congress or as soon thereafter as practicable.

Dated: January 17, 2003.
Robert W. Maggi,
Deputy Assistant Secretary, Defense Trade Controls, Bureau of Political-Military Affairs, Department of State.

November 15, 2002.

The Honorable Henry J. Hyde,

Chairman, Committee on International Relations, House of Representatives.

Dear Mr. Chairman: Pursuant to Section 36(c) of the Arms Export Control Act, I am transmitting, herewith, certification of a proposed license for the temporary export of defense articles or defense services sold commercially under a contract in the amount $50,000,000 or more.

The transaction described in the attached certification involves the temporary export of one (1) 601 HP Commercial Communications Satellite (Galaxy XIII), spare parts/ground support equipment, and fuel to international waters in the Pacific Ocean for Sea Launch or to Kourou, French Guiana on an Ariane Launch Vehicle.

The United States Government is prepared to license the export of these items having taken into account political, military, economic, human rights, and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 246-02.

November 15, 2002.

The Honorable J. Dennis Hastert,

Speaker of the House of Representatives.

Dear Mr. Speaker: I am transmitting, herewith, certification of a proposed issuance of an export license pursuant to Section 126.14 of the International Traffic in Arms Regulations concerning a major program authorization (MPA) and Section 36(c) of the Arms Export Control Act.

The transaction contained in the attached certification involves the export of electronic power generating systems to Germany, Italy, Spain and the United Kingdom in support of the Eurofighter program.

The United States Government is prepared to license the export of these items having taken into account political, military, economic, human rights and arms control considerations.

More detailed information is contained in the formal certification which, though unclassified, contains business information submitted to the Department of State by the applicant, publication of which could cause competitive harm to the United States firm concerned.

Sincerely,

Paul V. Kelly,

Assistant Secretary, Legislative Affairs.

Enclosure: Transmittal No. DTC 282-02.

November 18, 2002.

The Honorable Henry J. Hyde,

Chairman, Committee on International Relations, House of Representatives.

Dear Mr. Chairman: Pursuant to Section 36(c) of the Arms Export Control Act, I am transmitting, herewith, certification of a proposed technical assistance agreement for the export of defense articles or defense services sold commercially under a contract in the amount $50,000,000 or more.

The transaction contained in the attached certification involves the export of technical data and assistance related to or involved with the sale of the TELEKOM-2 commercial communications satellite to Indonesia, jointly with Canada, and its launch from French Guiana.

The United States Government is prepared to license the export of these items having taken into account political, military, economic, human rights and arms control considerations.

More detailed information is contained in the formal certification, which, though unclassified contains business information submitted to the Department of State by the applicant, publication of which could cause competitive harm to the United States firm concerned.

Sincerely,

Paul V. Kelly,

Assistant Secretary, Legislative Affairs.

Enclosure: Transmittal No. DTC 177-02.

[FR Doc. 03-2436 Filed 1-31-03; 8:45 am]

BILLING CODE 4710-25-P